DEPARTMENT OF AGRICULTURE

Animal and Plant Health Inspection Service

[Docket No. APHIS-2010-0109]

Notice of Revision and Request for Extension of Approval of an Information Collection; Importation of Equines Into the United States

AGENCY: Animal and Plant Health Inspection Service, USDA.

ACTION: Revision and extension of approval of an information collection; comment request.

SUMMARY: In accordance with the Paperwork Reduction Act of 1995, this notice announces the Animal and Plant Health Inspection Service's intention to revise an information collection associated with regulations for the importation of equines and to request extension of approval of the information collection to safeguard the health of the U.S. equine population.

DATES: We will consider all comments that we receive on or before February 7, 2011.

ADDRESSES: You may submit comments by either of the following methods:

• Federal eRulemaking Portal: Go to http://www.regulations.gov/fdmspublic/component/main?main=DocketDetail&d=APHIS-2010-0109 to submit or view comments and to view supporting and related materials available electronically.

• Postal Mail/Commercial Delivery: Please send one copy of your comment to Docket No. APHIS-2010-0109, Regulatory Analysis and Development, PPD, APHIS, Station 3A-03.8, 4700 River Road Unit 118, Riverdale, MD 20737-1238. Please state that your comment refers to Docket No. APHIS-2010-0109.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on regulations for the importation of equines into the United States, contact Dr. Barry Meade, Staff Veterinarian, Technical Trade Services Team—Animals, NCIE, VS, APHIS, 4700 River Road Unit 39, Riverdale MD 20737; (301) 734-0819. For copies of more detailed information on the information collection, contact Mrs. Celeste Sickles, APHIS' Information Collection Coordinator, at (301) 851-2908.

SUPPLEMENTARY INFORMATION:

Title: Importation of Equines into the United States.

OMB Number: 0579-0324.

Type of Request: Revision and extension of approval of an information collection.

Abstract: Under the Animal Health Protection Act (7 U.S.C. 8301 et seq.), the Animal and Plant Health Inspection Service (APHIS) regulates the importation and interstate movement of certain animals and animal products to prevent the introduction into or dissemination within the United States of pests and diseases of livestock.

The regulations in 9 CFR part 93 prohibit or restrict the importation of certain animals into the United States to prevent the introduction of communicable diseases of livestock and poultry. In accordance with Subpart C of the regulations, the importation of equines into the United States involves a variety of information collection activities, including import permit application; foreign health certificates; submission of requests for space at USDA quarantine facilities with declaration of importation and payment terms; specimen submission forms; requests for inspection, other services, dipping treatments; cooperative, trust fund, and written agreements; certification statements; daily records and logs; photographs for identification; permanent electronic identification compatible reader; plans for medical treatment; application for approval of a quarantine or holding facility; opportunity for a hearing on facility withdrawal or suspension; requests to change a horse's itinerary or method of transportation; and recordkeeping. We are adding as a new collection activity a checklist for approval of permanent, privately owned equine quarantine facilities.

We are asking the Office of Management and Budget (OMB) to approve our use of these information collection activities for 3 years.

This revised information collection combines equine importation activities currently approved by OMB under “Temporary Importation of Horses; Noncompetitive Entertainment Horses From Countries Affected With Contagious Equine Metritis”(0579-0324), “Importation of Horses, Ruminants, Swine, and Dogs; Inspection and Treatment for Screwworm (0579-0165), and “Importation of Animals and Poultry, Animal and Poultry Products, Certain Animal Embryos, Semen, and Zoological Animals” (0579-0040). We are changing the title to “Importation of Equines into the United States” to accurately reflect the combined collection activities.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.645347 hours per response.

Respondents: Importers of horses into the United States; operators of private quarantine facilities; States approved to conduct contagious equine metritis testing; State animal health authorities; foreign government officials; transporters; hobby farm operators; non-profit organizations; accredited veterinarians; private laboratories; and research institutions.

Estimated annual number of respondents: 35,500.

Estimated annual number of responses per respondent: 1.64231.

Estimated annual number of responses: 58,302.

Estimated total annual burden on respondents: 37,625 hours. (Due to averaging, the total annual burden hours may not equal the product of the annual number of responses multiplied by the reporting burden per response.)

All responses to this notice will be summarized and included in the request for OMB approval. All comments will also become a matter of public record.

Done in Washington, DC, this 1st day of December 2010.
Kevin Shea,
Acting Administrator, Animal and Plant Health Inspection Service.

[FR Doc. 2010-30643 Filed 12-6-10; 8:45 am]

BILLING CODE 3410-34-P